DEPARTMENT OF TRANSPORTATION

Federal Railroad Administration

[Docket No. FRA-2017-0002-N-13]

Proposed Agency Information Collection Activities; Comment Request

AGENCY: Federal Railroad Administration (FRA), U.S. Department of Transportation (DOT).

ACTION: Notice and request for comments.

SUMMARY: Under the Paperwork Reduction Act of 1995 (PRA) and its implementing regulations, FRA seeks approval of the proposed information collection activity below. Before submitting this information collection request (ICR) to the Office of Management and Budget (OMB) for approval, FRA is soliciting public comment on specific aspects of the activities identified below.

DATES: Comments must be received no later than June 19, 2017.

ADDRESSES: Submit written comments on the information collection activities by mail to: Ms. Kim Toone, Information Collection Clearance Officer, Office of Information Technology, RAD-20, Federal Railroad Administration, 1200 New Jersey Avenue SE., Mail Stop 35, Washington, DC 20590. Commenters requesting FRA to acknowledge receipt of their respective comments must include a self-addressed stamped postcard stating, “Comments on OMB Control Number 2130-XXXX,” and should also include the title of the ICR. Alternatively, comments may be faxed to (202) 493-6216 or (202) 493-6497, or emailed to Ms. Toone at Kim.Toone@dot.gov. Please refer to the assigned OMB control number in any correspondence submitted. FRA will summarize comments received in response to this notice in a subsequent notice and include them in its information collection submission to OMB for approval.

FOR FURTHER INFORMATION CONTACT: Ms. Kim Toone, Information Collection Clearance Officer, Office of Information Technology, RAD-20, Federal Railroad Administration, 1200 New Jersey Avenue SE., Mail Stop 35, Washington, DC 20590 (telephone: (202) 493-6132). (This telephone number is not toll free.)

SUPPLEMENTARY INFORMATION: The PRA, 44 U.S.C. 3501-3520, and its implementing regulations, 5 CFR part 1320, require Federal agencies to provide 60-days' notice to the public to allow comment on information collection activities before seeking OMB approval of the activities. See 44 U.S.C. 3506(c)(2)(A); 5 CFR 1320.8(d)(1), 1320.10(e)(1), 1320.12(a). Specifically, FRA invites interested parties to comment on the following summary of the proposed information collection activity regarding: (1) Whether the information collection activity is necessary for FRA to properly execute its functions, including whether the activity will have practical utility; (2) the accuracy of FRA's estimates of the burden of the information collection activity, including the validity of the methodology and assumptions used to determine the estimates; (3) ways for FRA to enhance the quality, utility, and clarity of the information being collected; and (4) ways for FRA to minimize the burden of the information collection activity on the public by automated, electronic, mechanical, or other technological collection techniques and other forms of information technology (e.g., permitting electronic submission of responses). See 44 U.S.C. 3506(c)(2)(A); 5 CFR 1320.8(d)(1).

FRA believes that soliciting public comment will promote its efforts to reduce the administrative and paperwork burdens associated with the collection of information that Federal regulations mandate. In summary, FRA reasons that comments received will advance three objectives: (1) Reduce reporting burdens; (2) ensure that it organizes information collection requirements in a “user-friendly” format to improve the use of such information; and (3) accurately assess the resources expended to retrieve and produce information requested. See 44 U.S.C. 3501.

Below is a brief summary of the information collection activity FRA will submit for OMB clearance:

Title: Information and Communications Technology Needs Assessment.

OMB Control Number: 2130-XXXX.

Abstract: The purpose of this information collection is to conduct a needs assessment that will provide information about how the railroading worker population uses information and communications technology (ICT). FRA periodically conducts such context assessments of the social, legal, and policy barriers related to its mission. For purposes of this study, ICT is defined as technology and tools that people use to share, distribute, and gather information, and to communicate with one another, one on one, or in groups. FRA uses ICT to disseminate research findings and to increase awareness of safety education programs and other FRA sponsored innovation projects. The data gathered in this study will help FRA and DOT attain the strategic goal of improving safety in transportation by providing information that will improve and inform strategic communication dissemination efforts to reach the railroading population more efficiently and successfully.

The proposed study is a needs assessment designed to understand the current state of railroading industry use and application of ICT. As such, this study asks broad questions about ICT. The information will be useful to FRA's efforts to design how FRA uses ICT. The main objectives in this study are to: (1) Determine how Transportation, Yard, and Engineer railroaders use ICT; (2) identify ways to reach this population with future ICT based education and communication efforts; and (3) develop baseline awareness data for FRA's research, development and technology programs.

Form Number(s): FRA F 6180.169.

Affected Public: Railroad Union Members.

Frequency of Submission: One time.

Reporting Burden:

Maximum number of respondents | Time per response (minutes) | Total annual burden in hours
1,533 | 20 | 511

Total Estimated Annual Responses: 1,533.

Total Estimated Annual Burden: 511 hours.

Under 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Sarah L. Inderbitzin,
Acting Chief Counsel.

[FR Doc. 2017-07799 Filed 4-17-17; 8:45 am]

BILLING CODE 4910-06-P